DEPARTMENT OF COMMERCE

National Oceanic and Atmospheric Administration

50 CFR Parts 600 and 660

[I.D. 062600B]

Fisheries off West Coast States and in the Western Pacific; Pacific Coast Groundfish Fishery; Rebuilding Overfished Species

AGENCY: National Marine Fisheries Service (NMFS), National Oceanic and Atmospheric Administration (NOAA), Commerce.

ACTION: Approval of overfished species rebuilding plans.

SUMMARY: NMFS announces approval of rebuilding plans for three overfished species managed under the Pacific coast groundfish fishery management plan (FMP); bocaccio, lingcod, and Pacific ocean perch (POP). These three species were designated as overfished under the Magnuson-Stevens Fishery Conservation and Management Act (Magnuson-Stevens Act) on March 3, 1999. Initial rebuilding measures for these species were implemented through the 2000 annual specifications and management measures for Pacific coast groundfish). The purpose of this action is to provide a public announcement of formal approval of these three overfished species rebuilding plans.

DATES: Effective September 5, 2000 until the effective date of the 2001 annual specifications and management measures for the Pacific coast groundfish fishery, which will be published in the Federal Register. Comments will be accepted through October 5, 2000.

ADDRESSES: Written comments should be sent to William Stelle, Jr., Administrator, Northwest Region, NMFS, 7600 Sand Point Way N.E., BIN C15700, Bldg. 1, Seattle, WA 98115-0070, or faxed to 206-526-6736; or to Rebecca Lent, Administrator, Southwest Region, NMFS, 501 West Ocean Blvd., Suite 4200, Long Beach, CA 90802-4213, or faxed to 562-980-4047. Comments will not be accepted if submitted via e-mail or Internet. Copies of the rebuilding plans may be obtained from the Pacific Fishery Management Council (Council) by writing to the Council at 2130 SW Fifth Avenue, Suite 224, Portland, OR 97201, or by contacting Donald McIsaac at 503-326-6352.

FOR FURTHER INFORMATION CONTACT: William L. Robinson, Northwest Region, NMFS, 206-526-6140; fax: 206-526-6736 and e-mail: bill.robinson@noaa.gov or Svein Fougner, Southwest Region, NMFS, 562-980-4000; fax: 562-980-4047 and e-mail: svein.fougner@noaa.gov.

Electronic Access: This Federal Register document is also accessible via the Internet at the Office of Federal Register's website at http://www.access.gpo.gov/su-docs/aces/aces140.html.

SUPPLEMENTARY INFORMATION: The U.S. groundfish fisheries off the Washington, Oregon, and California coasts are managed pursuant to the Magnuson-Stevens Act (16 U.S.C. 1801-1833) and the Pacific Coast Groundfish FMP. Regulations implementing the FMP appear at 50 CFR part 660 subpart G.

According to the FMP, a species is overfished if its current biomass is less than 25 percent of the unfished biomass level. The Magnuson-Stevens Act requires that a rebuilding plan be prepared within a year after the Council has been notified that a species is considered overfished. In March 1999, NMFS notified the Council that three species were considered overfished: bocaccio, lingcod, and POP.

NMFS implemented the initial rebuilding measures for the three overfished species in the 2000 annual specifications and management measures for Pacific coast groundfish. Acceptable Biological Catches (ABCs), optimum yields (OYs), and management measures for 2000 are consistent with the FMP and with the first year of rebuilding in the rebuilding plans. None of these rebuilding plans, nor the rebuilding measures, use the multispecies exception at 50 CFR 660.310(d)(6) that authorizes overfishing under limited conditions. The three approved rebuilding plans and 2000 rebuilding measures are summarized as follows:

Bocaccio (Sebastes paucispinis)

There are two separate West Coast bocaccio populations, divided at approximately 36° N. lat. The status of the northern bocaccio stock, with a range extending into British Columbia and Alaska, is unknown. It is the southern stock, in waters south of 36° N. lat. (known as the combined Monterey and Conception management areas) that is considered overfished. Rebuilding measures for bocaccio only apply to fisheries south of 36° N. lat.

The southern bocaccio stock has suffered poor recruitment during the warm water conditions that have prevailed off southern California for the past several years. A 1999 southern bocaccio stock assessment estimated that the current spawning output of the southern bocaccio stock is at 2.1 percent of the estimated spawning output at its unfished level. Bocaccio are a typical long-lived and slow-growing rockfish, and stock rebuilding for bocaccio is heavily dependent on single large year classes. The 1999 year class is thought to be an unusually large cohort that could help improve the future health of the stock.

For the bocaccio rebuilding plan, the Council conservatively assumed a moderate-sized 1999 year class, which sets the time to rebuild in the absence of fishing at 26 years. Under the Magnuson-Stevens Act, the maximum allowable time to rebuild is that minimum no-fishing assumption, plus one mean generation time for that species. In the case of bocaccio, with a mean generation time of 12 years, the maximum rebuilding time would be 38 years (26 + 12). There is a 67 percent probability that the bocaccio stock will rebuild to MSY biomass in 38 years.

For 2000, the Council set the bocaccio ABC at 164 metric tons (mt) and the OY at 100 mt. These very conservative harvest levels do not allow directed bocaccio targeting, but rather acknowledge that some incidental catch will occur. Bocaccio management measures are designed to reduce possible incidental interceptions. Bottom trawl target opportunities for shelf rockfish are dramatically reduced, with no bocaccio landings allowed for vessels using large footrope trawl gear (i.e., gear with rollers larger than 8 inches (20 cm) in diameter), and small footrope bottom trawl gear permitted to land amounts that should accommodate only small, unavoidable bycatch. Midwater trawling for shelf rockfish is encouraged over bottom trawling. Chilipepper, which commonly associates with bocaccio, has an OY reduced almost in half to reduce potential bocaccio bycatch. For both the commercial nontrawl gear fisheries and the recreational fisheries, shelf rockfish harvest has been closed for 2 of the first 4 months of the year south of 40°10' N. lat., and commercial set net limits are reduced to the same level as other open access nontrawl gear limits. Further recreational management measures include reduced bag limits (from 15 to 10 rockfish), and maintaining the 3 bocaccio bag limit but applying a new 10-inch (25.4 cm) size limit for that species. Ironically, the abundant 1999 year class had made bocaccio avoidance particularly difficult, forcing strict curtailment of fishing effort to avoid that year class.

Lingcod (Ophiodon elongatus)

West Coast lingcod is a single stock, having a range encompassing the U.S. West Coast, and extending into British Columbia. Rebuilding measures for lingcod apply coastwide. The current spawning potential of the West Coast lingcod stock is estimated to be at 7.5 percent of the average unfished level. Although the stock has declined substantially from historic levels, lingcod appears to be a highly productive species with good potential for rapid population increases, given appropriate decreases in fishing effort.

Lingcod mature at a relatively rapid rate, at age 2+ for males and age 3+ for females. Because of lingcod's rapid maturity and high fecundity, the Council has designed a rebuilding plan that is expected to bring the lingcod stock to its maximum sustainable yield (MSY) level within 10 years. The management measures implementing the rebuilding plan in 2000 set the lingcod ABC at 700 mt and the OY at 378 mt. Under these measures, there is a 60 percent probability that the biomass will rebuild to the MSY level within 10 years.

In 2000, commercial landings of lingcod are prohibited for 6 months of the year (January-April, plus November-December), thus protecting the stock during lingcod spawning and nesting seasons. Lingcod landings limits during the open season are much lower than lingcod limits of prior years, yet have been set to achieve the limited entry and open access allocations. The size limit for lingcod is increased for fixed gear and recreational fisheries south of 40°10' N. lat. A maximum size limit is imposed in the recreational fishery off Oregon, and a new 2-fish per day bag limit is imposed off California. The recreational fishery for lingcod is closed 4 months off Washington, remains open in Oregon and California north of 40°10' N. lat., and is closed 2 of the first 4 months of the year south of 40°10' N. lat. The varying seasons, bag limits and size limits for each state were recommended to best fit the needs of the recreational fisheries of each state, while meeting the conservation requirements. Lingcod are found predominantly on the continental shelf. Gear restrictions that the Council imposed to protect continental shelf rockfish will also benefit lingcod. Lingcod taken onboard while still living appear to have a good chance of survival if returned quickly to sea.

Pacific Ocean Perch (Sebastes alutus)

The West Coast POP stock is considered a single population that extends from the northern border of Washington State south into California. Rebuilding measures for POP apply north of 43° N. lat. (known as the combined Vancouver and Columbia management areas.)

POP off the West Coast was overfished by foreign vessels before the implementation of the FMP. State and Federal rebuilding efforts have been in place since the early 1980's, but those rebuilding efforts were not as rigorous as currently required by the Magnuson-Stevens Act. A 1998 stock assessment estimated the POP biomass to be at 13 percent of its unfished level. Recruitment has been at a steady low for several years, with no large year classes appearing for the past two decades. Although the historical rebuilding program has accomplished little rebuilding, it has probably prevented further declines in abundance, given the lack of the large year classes needed to boost the stock. Like bocaccio, POP are a slow-growing and long-lived rockfish with relatively low fecundity.

POP have been slow to rebuild and are expected to continue to rebuild slowly. If all fishing on POP were eliminated, POP could be expected to rebuild in approximately 18 years. The maximum allowable rebuilding time for POP is 18 years plus one mean generation length (29 years for POP) for a total of 47 years. For 2000, rebuilding harvest levels set the POP ABC at 713 mt and the OY at 270 mt. Under these specifications, there is a 79 percent probability that the biomass will rebuild to the MSY level within 47 years.

POP primarily inhabit waters of the upper continental slope and are found along the edge of the continental shelf. Therefore, POP also will benefit from the trawl gear restrictions adopted to protect continental shelf rockfish species. Relative to 1999 levels, the cumulative trip limit for POP taken in the limited entry fishery is reduced by 87 percent from May - October and 63 percent the other 6 months. POP is not an important species for recreational or nontrawl commercial fisheries; therefore, allocation of harvest reduction between fishing sectors is not an issue.

Authority: 16 U.S.C. 1801 et seq.

Dated: August 28, 2000.
William T. Hogarth,
Deputy Assistant Administrator for Fisheries, National Marine Fisheries Service.

[FR Doc. 00-22547 Filed 9-1-00; 8:45 am]

Billing Code: 3510-22 -S